DEPARTMENT OF JUSTICE

Drug Enforcement Administration

Importer of Controlled Substances; Notice of Registration

By Notice dated October 19, 2007 and published in the Federal Register on October 25, 2007, (72 FR 60693-60695), Research Triangle Institute, Kenneth H. Davis Jr., Hermann Building East Institute Drive, P.O. Box 12194, Research Triangle Park, North Carolina 27709, made application by renewal to the Drug Enforcement Administration (DEA) to be registered as an importer of the basic classes of controlled substances listed in schedules I and II:

Drug | Schedule
1-(1-Phenylcyclohexyl)pyrrolidine (7458) | I
1-[1-(2-Thienyl)cyclohexy]piperidine (7470) | I
1-[1-(2-Thienyl)cyclohexyl]pyrrolidine (7473) | I
1-Methyl-4-phenyl-4-propionoxypiperidine (9661) | I
1-(2-Phenylethyl)-4-phenyl-4-acetoxypiperidine (9663) | I
2,5-Dimethoxy-4-(n)-propylthiophenethylamine (7348) | I
2,5-Dimethoxy-4-ethylamphetamine (7399) | I
2,5-Dimethoxyamphetamine (7396) | I
3,4,5-Trimethoxyamphetamine (7390) | I
3,4-Methylenedioxyamphetamine (7400) | I
3,4-Methylenedioxymethamphetamine (7405) | I
3,4-Methylenedioxy-N-ethylamphetamine (7404) | I
3-Methylfentanyl (9813) | I
3-Methylthiofentanyl (9833) | I
4-Bromo-2,5-dimethoxyamphetamine (7391) | I
4-Bromo-2,5-dimethoxyphenethylamine (7392) | I
4-Methyl-2,5-dimethoxyamphetamine (7395) | I
4-Methylaminorex (cis isomer) (1590) | I
4-Methoxyamphetamine (7411) | I
5-Methoxy-3,4-methylenedioxyamphetamine (7401) | I
5-Methoxy-N,N-diisopropyltryptamine (7439) | I
Acetorphine (9319) | I
Acetyl-alpha-methylfentanyl (9815) | I
Acetyldihydrocodeine (9051) | I
Acetylmethadol (9601) | I
Allylprodine (9602) | I
Alphacetylmethadol except levo-alphacetylmethadol (9603) | I
Alpha-ethyltryptamine (7249) | I
Alphameprodine (9604) | I
Alphamethadol (9605) | I
Alpha-methylfentanyl (9814) | I
Alpha-methylthiofentanyl (9832) | I
Alpha-methyltryptamine (7432) | I
Aminorex (1585) | I
Benzethidine (9606) | I
Benzylmorphine (9052) | I
Betacetylmethadol (9607) | I
Beta-hydroxy-3-methylfentanyl (9831) | I
Beta-hydroxyfentanyl (9830) | I
Betameprodine (9608) | I
Betamethadol (9609) | I
Betaprodine (9611) | I
Bufotenine (7433) | I
Cathinone (1235) | I
Clonitazene (9612) | I
Codeine methylbromide (9070) | I
Codeine-N-Oxide (9053) | I
Cyprenorphine (9054) | I
Desomorphine (9055) | I
Dextromoramide (9613) | I
Diampromide (9615) | I
Diethylthiambutene (9616) | I
Diethyltryptamine (7434) | I
Difenoxin (9168) | I
Dihydromorphine (9145) | I
Dimenoxadol (9617) | I
Dimepheptanol (9618) | I
Dimethylthiambutene (9619) | I
Dimethyltryptamine (7435) | I
Dioxaphetyl butyrate (9621) | I
Dipipanone (9622) | I
Drotebanol (9335) | I
Ethylmethylthiambutene (9623) | I
Etonitazene (9624) | I
Etorphine except HCl (9056) | I
Etoxeridine (9625) | I
Fenethylline (1503) | I
Furethidine (9626) | I
Gamma Hydroxybutyric Acid (2010) | I
Heroin (9200) | I
Hydromorphinol (9301) | I
Hydroxypethidine (9627) | I
Ibogaine (7260) | I
Ketobemidone (9628) | I
Levomoramide (9629) | I
Levophenacylmorphan (9631) | I
Lysergic acid diethylamide (7315) | I
Marihuana (7360) | I
Mecloqualone (2572) | I
Mescaline (7381) | I
Methaqualone (2565) | I
Methcathinone (1237) | I
Methyldesorphine (9302) | I
Methyldihydromorphine (9304) | I
Morpheridine (9632) | I
Morphine methylbromide (9305) | I
Morphine methylsulfonate (9306) | I
Morphine-N-Oxide (9307) | I
Myrophine (9308) | I
N,N-Dimethylamphetamine (1480) | I
N-[1-(2-thienyl)methyl-4-piperidyl]-N-phenylpropanamide (9834) | I
N-[1-benzyl-4-piperidyl]-N-phenylpropanamide (9818) | I
N-Benzylpiperazine (7493) | I
N-Ethyl-3-piperidyl benzilate (7482) | I
N-Ethylamphetamine (1475) | I
N-Ethyl-1-phencylcyclohexylamine (7455) | I
N-Hydroxy-3,4-methylenedioxyamphetamine (7402) | I
Nicocodeine (9309) | I
Nicomorphine (9312) | I
N-Methyl-3-piperidyl benzilate (7484) | I
Noracymethadol (9633) | I
Norlevorphanol (9634) | I
Normethadone (9635) | I
Normorphine (9313) | I
Norpipanone (9636) | I
Para-Fluorofentanyl (9812) | I
Parahexyl (7374) | I
Peyote (7415) | I
Phenadoxone (9637) | I
Phenampromide (9638) | I
Phenomorphan (9647) | I
Phenoperidine (9641) | I
Pholcodine (9314) | I
Piritramide (9642) | I
Proheptazine (9643) | I
Properidine (9644) | I
Propiram (9649) | I
Psilocybin (7437) | I
Psilocyn (7438) | I
Racemoramide (9645) | I
Tetrahydrocannabinols (7370) | I
Thebacon (9315) | I
Thiofentanyl (9835) | I
Thiophene analog of phencyclidine (7470) | I
Tilidine (9750) | I
Trimeperidine (9646) | I
1-Phenylcyclohexylamine (7460) | II
1-Piperidinocyclohexanecarbonitrile (8603) | II
Alfentanil (9737) | II
Alphaprodine (9010) | II
Amobarbital (2125) | II
Amphetamine (1100) | II
Anileridine (9020) | II
Bezitramide (9800) | II
Carfentanil (9743) | II
Codeine (9050) | II
Dextropropoxyphene, bulk (non-dosage forms) (9273) | II
Dihydrocodeine (9120) | II
Dihydroetorphine (9334) | II
Diphenoxylate (9170) | II
Ethylmorphine (9190) | II
Etorphine Hcl (9059) | II
Fentanyl (9801) | II
Glutethimide (2550) | II
Hydrocodone (9193) | II
Hydromorphone (9150) | II
Isomethadone (9226) | II
Levo-alphacetylmethadol (9648) | II
Levomethorphan (9210) | II
Levorphanol (9220) | II
Lisdexamfetamine (1205) | II
Meperidine (9230) | II
Meperidine intermediate—A (9232) | II
Meperidine intermediate—B (9233) | II
Meperidine intermediate—C (9234) | II
Metazocine (9240) | II
Methadone (9250) | II
Methadone intermediate (9254) | II
Methamphetamine (1105) | II
Methylphenidate (1724) | II
Metopon (9260) | II
Moramide intermediate (9802) | II
Morphine (9300) | II
Nabilone (7379) | II
Opium, raw (9600) | II
Opium extracts (9610) | II
Opium fluid extract (9620) | II
Opium tincture (9630) | II
Opium, granulated (9640) | II
Oxycodone (9143) | II
Oxymorphone (9652) | II
Pentobarbital (2270) | II
Phenazocine (9715) | II
Phencyclidine (7471) | II
Phenmetrazine (1631) | II
Phenylacetone (8501) | II
Piminodine (9730) | II
Powdered opium (9639) | II
Racemethorphan (9732) | II
Racemorphan (9733) | II
Remifentanil (9739) | II
Secobarbital (2315) | II
Sufentanil (9740) | II
Thebaine (9333) | II

The company plans to import small quantities of the listed controlled substances for the National Institute of Drug Abuse (NIDA) for research activities.

No comments or objections have been received. DEA has considered the factors in 21 U.S.C. 823(a) and 952(a) and determined that the registration of Research Triangle Institute to import the basic classes of controlled substances is consistent with the public interest and with United States obligations under international treaties, conventions, or protocols in effect on May 1, 1971, at this time. DEA has investigated Research Triangle Institute to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: January 10, 2008.
Joseph T. Rannazzisi,
Deputy Assistant Administrator, Office of Diversion Control, Drug Enforcement Administration.

[FR Doc. E8-771 Filed 1-16-08; 8:45 am]

BILLING CODE 4410-09-P